DEPARTMENT OF ENERGY

Federal Energy Regulatory Commission

[Docket No. RT01-2-000 and RM01-12-000]

PJM Interconnection, LLC; Notice of Technical Conference Remedying Undue Discrimination Through Open Access Transmission Service and Standard Electricity Market Design

August 7, 2003.

Take notice that a technical conference for PJM Interconnection, LLP, will be held on August 28, 2003, from 1 p.m. to 5 p.m. Eastern Daylight Time at the Wyndham Hotel, 700 King Street, Wilmington, Delaware. Members of the Commission will attend and participate in the discussions.

This conference is one of a series of regional technical conferences announced in the White Paper issued in this docket on April 28, 2003. The Commission intends to use these conferences to discuss with states and market participants in each region reasonable timetables for addressing wholesale market design issues discussed in the White Paper and ways to tailor the final rule in this proceeding to benefit customers within the region.

The Commission is inviting selected panelists to participate in this conference; it is not entertaining requests to make presentations. Further details of the conference, including the agenda, will be specified in a subsequent notice. All interested persons may attend the conference, and registration is not required. However, in-person attendees are encouraged to register on-line at http://www.ferc.gov/home/conferences.asp.

This technical conference will immediately follow a meeting of the PJM Members Committee, which will be held that morning at the same location. PJM offers a web broadcast of its meeting through the PJM Web site and will also broadcast the FERC technical conference. To access the web broadcast, go to http://www.pjm.com/committees/members/members.html. To access the broadcast window directly, go to http://events01.activate.net/pmtv/pjm/10064/.

Transcripts of the conference will be immediately available from Ace Reporting Company (202-347-3700 or 1-800-336-6646) for a fee. They will be available for the public on the Commission's FERRIS system seven calendar days after FERC receives the transcript. Additionally, Capitol Connection offers the opportunity for remote listening of the conference via Real Audio or a Phone Bridge Connection for a fee. Persons interested in making arrangements should contact David Reininger or Julia Morelli at the RT01-2-000 Capitol Connection (703-993-3100) as soon as possible or visit the Capitol Connection Web site at http://www.capitolconnection.org and click on “FERC.”

In addition, for more information about the conference, please contact Sarah McKinley at (202) 502-8004 or sarah.mckinley@ferc.gov.

Magalie R. Salas,
Secretary.

[FR Doc. 03-20980 Filed 8-15-03; 8:45 am]

BILLING CODE 6717-01-P